FEDERAL COMMUNICATIONS COMMISSION

47 CFR Part 73

[MB Docket No. 25-139; RM-12001; DA 25-228; FR ID 285689]

Television Broadcasting Services Las Vegas, Nevada

AGENCY: Federal Communications Commission.

ACTION: Proposed rule.

SUMMARY: The Video Division, Media Bureau (Bureau), has before it a petition for rulemaking, as amended, filed by CHANNEL 33, INC. (Channel 33 or Petitioner), the licensee of KHSV, channel 2, Las Vegas, Nevada (Station or KHSV). Petitioner requests that the Bureau substitute channel 23 for channel 2 at Las Vegas, Nevada in the Table of TV Allotments (table).

DATES: Comments must be filed on or before April 24, 2025 and reply comments on or before May 9, 2025.

ADDRESSES: Federal Communications Commission, Office of the Secretary, 45 L Street NE, Washington, DC 20554. In addition to filing comments with the FCC, interested parties should serve counsel for the Petitioner as follows: Paul Cicelski, Esq., Lerman Senter PLLC, 2001 L Street NW, Suite 400, Washington, DC 20036.

FOR FURTHER INFORMATION CONTACT: Emily Harrison, Media Bureau, at Emily.Harrison@fcc.gov, (202) 418-1665, or Mark Colombo, Media Bureau, at Mark.Colombo@fcc.gov, (202) 418-7611.

SUPPLEMENTARY INFORMATION: In its Petition, Channel 33 asserts that the proposed channel substitution of UHF channel 23 for low-VHF channel 2 serves the public interest because it resolves longstanding indoor digital VHF reception problems experienced by Station viewers. In this regard, Channel 33 states that the Commission has recognized that VHF channels have certain characteristics that pose challenges for their use in providing digital television service, including propagation characteristics that allow undesired signals and noise to be receivable at relatively far distances. According to Channel 33, radiation by the illumination devices in Las Vegas and its casinos are known to interfere with low-VHF channels. In order to demonstrate that many persons within the channel 2 noise limited service contour (NLSC) currently are not receiving a viewable signal, Petitioner submits examples of complaints from over 200 viewers in Las Vegas city boundaries and immediate surrounding areas, where KHSV's signal strength is the strongest, reporting that they cannot reliably receive a viewable signal.

Channel 33 further asserts that while the proposed channel 23 predicted NLSC does not reach 41,840 persons who currently reside within the channel 2 predicted NLSC, this population number is not representative of the actual loss area. Petitioner explains that in addition to the Station operating on a low VHF channel, there are unique factors in Las Vegas which support a deviation from the Commission's general policy to only accept de minimis loss of population in connection with channel substitution requests. According to an analysis provided by Petitioner, most of the predicted loss area is on the fringe of the Station's protected NLSC, which extends more than 80 miles from the Station's antenna site as calculated by § 73.619(b)(4) of the Commission's rules (Rules). Petitioner explains that Las Vegas is unique in that it sits in a “topographical bowl” surrounded by “extremely tall walls of rock” which block the Station's signal from areas at the edge of the Station's NLSC, such as Mesquite, Nevada, Bullhead City, Arizona, and Kingman, Arizona (Fringe Localities). Included with its Petition are terrain maps of the Las Vegas area which show the extreme terrain that blocks the Station's signal from reaching the Fringe Localities because they do not have line-of-site to the KHSV antenna and, thus, cannot reliably receive the Station's signal. Petitioner also provides field measurements which it states show that KHSV's signal is largely not present in the Fringe Localities and in those limited locations that have a signal, it is “barely useable” or the signal is in largely undeveloped or underdeveloped areas away from significant residential and industrial electronic noise. Based on this analysis, Petitioner concludes that changing the Station's channel “will not create more than a de minimis population loss (since there is a de minimis number of viewers to start with) in these distant communities.”

We believe that the Petitioner's channel substitution proposal for KHSV warrants consideration. Based on an analysis by Bureau staff, channel 23 can be substituted for channel 2 as proposed in compliance with the principal community coverage requirements of section 73.618 of the Rules, at coordinates 36-00′-31.0″ N and 115-00′-20.0″ W. In addition, we find that this channel change meets the technical requirements set forth in section 73.622(a) of the Rules. Further, because of the unique reception difficulties experienced on low-VHF channels due to the significant levels of interference from numerous illumination devices in Las Vegas, the topography of the Las Vegas area, and the measured lack of reception today in the loss areas due to terrain, we tentatively conclude that although total viewer loss is not de minimis, based on the unique facts and circumstances, the benefits of the proposal to the public outweigh the harms. We seek comment on this tentative conclusion. According to the Petitioner, 86,424 persons will fall outside of the Station's current channel 2 NLSC. However, when using Longley-Rice, which takes into account terrain loss, the loss population in the Fringe Localities is predicted to be less than half that—41,480 persons. Approximately, 44,944 persons in the Fringe Localities should continue to receive KHSV despite being outside the Station's new channel 23 NLSC contour. An analysis included by the Petitioner also confirms that most of the remaining loss area is served by translators for other stations and low power television (LPTV) stations. For example, nine such LPTV/translator stations exist in the Kingman, Arizona area. In addition, an analysis by Bureau staff agrees with the Petitioner that some viewers in the loss area will continue to be covered by other full power stations. For example, KMOH-TV, Kingman, AZ (Facility ID No. 24573) and KMCC(TV), Laughlin, NV (Facility ID No. 41237) cover portions of the Fringe Localities. While we do not depend on these facts in tentatively concluding that the proposal warrants consideration, we believe that these facts help to support our tentative conclusion that this proposal serves the public interest.

This is a synopsis of the Commission's Notice of Proposed Rulemaking, MB Docket No. 25-139; RM-12001; DA 25-228, adopted March 14, 2025, and released March 14, 2025. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a notice of proposed rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

Providing Accountability Through Transparency Act: The Providing Accountability Through Transparency Act, Public Law 118-9, requires each agency, in providing notice of a rulemaking, to post online a brief plain-language summary of the proposed rule. The required summary of this notice of proposed rulemaking is available at https://www.fcc.gov/proposed-rulemakings.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.622, in the table in paragraph (j), under Nevada, revise the entry for “Las Vegas” to read as follows:

§ 73.622 Digital television table of allotments.

* * * * *

(j) * * *

Community | Channel No.
* * * * *
Nevada
* * * * *
Las Vegas | 7, * 11, 16, 22, 23, 26, 29
* * * * *

* * * * *

[FR Doc. 2025-05014 Filed 3-24-25; 8:45 am]

BILLING CODE 6712-01-P